ENVIRONMENTAL PROTECTION AGENCY

[FRL-9648-8]

Request for Nominations of Experts for a Science Advisory Board Panel To Review EPA's Web-Based Report on the Environment

AGENCY: Environmental Protection Agency (EPA).

ACTION: Notice.

SUMMARY: The EPA Science Advisory Board (SAB) Staff Office requests public nominations of technical experts to form an SAB panel to review the Agency's Web-based Report on the Environment.

DATES: Nominations should be submitted by April 6, 2012 per the instructions below.

FOR FURTHER INFORMATION: Any member of the public wishing further information regarding this Notice and Request for Nominations may contact Dr. Thomas Armitage, Designated Federal Officer (DFO), SAB Staff Office, by telephone/voice mail at (202) 564-2155, by fax at (202) 565-2098, or via email at armitage.thomas@epa.gov. General information concerning the EPA SAB can be found at the EPA SAB Web site at www.epa.gov/sab.

SUPPLEMENTARY INFORMATION:

Background

The SAB (42 U.S.C. 4365) is a chartered Federal Advisory Committee that provides independent scientific and technical peer review, advice, consultation, and recommendations to the EPA Administrator on the technical basis for EPA actions. As a Federal Advisory Committee, the SAB conducts business in accordance with the Federal Advisory Committee Act (FACA) (5 U.S.C. App. 2) and related regulations. The SAB will comply with the provisions of FACA and all appropriate SAB Staff Office procedural policies.

EPA's Web-based Report on the Environment (ROE) has been developed to provide a comprehensive online source of scientific indicators describing the condition of and trends in the nation's environment and human health. The ROE indicators are numerical values derived from actual measurements of human health and ecological condition over specified geographic areas of the United States. The ROE indicators are intended to inform strategic planning, priority setting, and decision making across EPA and provide information for the public on the state of the environment.

In 2004 and 2007, the SAB reviewed two draft versions of EPA's ROE. The findings and recommendations of those SAB reviews are available on the SAB Web site at www.epa.gov/sab (see reports EPA-SAB-05-004 and EPA-SAB-08-007). The ROE was subsequently published by EPA in 2008, and in 2009 SAB members provided additional advice on continued development of future versions of the ROE (see report EPA-SAB-09-017). Since the 2008 publication of the ROE, EPA has maintained and updated the ROE indicators online at www.epa.gov/roe. EPA is developing a new user-friendly and interactive Web site to provide improved access to the data and information in the ROE for a variety of audiences. EPA has also addressed recommendations from previous SAB reviews in order to develop a more robust environmental reporting program. Specifically, EPA has developed: (1) Conceptual frameworks, based on a sustainability paradigm, to illustrate connections among ROE indicators and Agency programs, (2) new and revised ROE indicators, including sustainability indicators that incorporate economic data, and (3) statistical information to address indicator variability and uncertainty. EPA has asked the SAB to review the scientific and technical merit of this work to improve the ROE. In response to EPA's request, the SAB Staff Office will form an expert panel to conduct the review.

Availability of the Review Materials

SAB review materials will be made available via EPA's Web site and will consist of a newly designed ROE Web site and accompanying issue papers. All new ROE developments described above (e.g., conceptual frameworks, new and revised indicators, and statistical data) will be presented online rather than in a traditional hard copy report. For information concerning the ROE, please contact Ms. Madalene Stevens, National Center for Environmental Assessment, Office of Research and Development, U.S. EPA, 1200 Pennsylvania Avenue NW., Mail Code 8601-P, Washington, DC 20460, phone (703) 347-8655 or at stevens.madalene@epa.gov.

Request for Nominations

The SAB Staff Office requests nominations of recognized experts from a wide range of scientific and engineering disciplines with experience and expertise in: designing environmental and human health indicators, and evaluating and/or communicating indicator information and data at regional or national scales. Nominations of experts in various disciplines are requested including: (a) Environmental scientists and engineers with knowledge of the sources, fate, and transport of air pollutants and outdoor and indoor air quality indicators; (b) aquatic biologists, ecologists, hydrologists, chemists, oceanographers and microbiologists with expertise in assessing the condition of surface water, ground water, drinking water, wetlands, coastal waters, and/or recreational waters; (c) environmental scientists, ecologists, soil scientists, and environmental engineers with expertise in the use of indicators (e.g., land cover, land use, wastes on land, chemicals used on land, and contaminated land) to assess the condition of land; (d) health scientists (e.g., in the fields of public health, epidemiology, and risk assessment) with expertise in assessing human exposure to environmental pollutants, health risks associated with environmental pollutants, and/or indicators for assessing human health condition; (e) ecologists with expertise in the use of indicators to assess the ecological effects of exposure to pollutants and the condition of whole ecosystems; (f) statisticians with expertise in analysis of environmental information to determine the status of and trends in environmental condition; (g) environmental economists with knowledge of sustainability analysis; (h) experts from any of the above disciplines with knowledge of sustainability science and sustainability indicators; and (i) communication and information scientists with expertise in using and/or communicating environmental indicator information to inform planning and decision making.

Process and Deadline for Submitting Nominations

Any interested person or organization may nominate qualified individuals in the areas of expertise described above for possible service on this expert panel. Nominations should be submitted in electronic format (preferred over hard copy) following the instructions for “Nominating Experts to Advisory Panels and Ad Hoc Committees Being Formed,” http://www.epa.gov/sab provided on the SAB Web site. The instructions can be accessed through the “Nomination of Experts” link on the blue navigational bar at the SAB Web site http://www.epa.gov/sab. To receive full consideration, nominations should include all of the information requested below.

EPA's SAB Staff Office requests contact information about the person making the nomination; contact information about the nominee; the disciplinary and specific areas of expertise of the nominee; the nominee's resume or curriculum vita; sources of recent grant and/or contract support; and a biographical sketch of the nominee indicating current position, educational background, research activities, and recent service on other national advisory committees or national professional organizations.

Persons having questions about the nomination procedures, or who are unable to submit nominations through the SAB Web site, should contact Dr. Thomas Armitage, DFO, as indicated above in this notice. Nominations should be submitted in time to arrive no later than April 6, 2012. EPA values and welcomes diversity. In an effort to obtain nominations of diverse candidates, EPA encourages nominations of women and men of all racial and ethnic groups.

The EPA SAB Staff Office will acknowledge receipt of nominations. The names and biosketches of qualified nominees identified by respondents to this Federal Register notice, and additional experts identified by the SAB Staff, will be posted in a List of Candidates on the SAB Web site at http://www.epa.gov/sab. Public comments on this List of Candidates will be accepted for 21 days. The public will be requested to provide relevant information or other documentation on nominees that the SAB Staff Office should consider in evaluating candidates.

For the EPA SAB Staff Office a balanced review panel includes candidates who possess the necessary domains of knowledge, the relevant scientific perspectives (which, among other factors, can be influenced by work history and affiliation), and the collective breadth of experience to adequately address the charge. In forming this expert panel, the SAB Staff Office will consider public comments on the List of Candidates, information provided by the candidates themselves, and background information independently gathered by the SAB Staff Office. Selection criteria to be used for panel membership include: (a) Scientific and/or technical expertise, knowledge, and experience (primary factors); (b) availability and willingness to serve; (c) absence of financial conflicts of interest; (d) absence of an appearance of a lack of impartiality; (e) skills working in committees, subcommittees and advisory panels; and (f) for the Panel as a whole, diversity of expertise and viewpoints.

The SAB Staff Office's evaluation of an absence of financial conflicts of interest will include a review of the “Confidential Financial Disclosure Form for Special Government Employees Serving on Federal Advisory Committees at the U.S. Environmental Protection Agency” (EPA Form 3110-48). This confidential form allows government officials to determine whether there is a statutory conflict between a person's public responsibilities (which include membership on an EPA federal advisory committee) and private interests and activities, or the appearance of a lack of impartiality, as defined by federal regulation. The form may be viewed and downloaded from the following URL address: http://www.epa.gov/sab/pdf/epaform3110-48.pdf.

The approved policy under which the EPA SAB Office selects subcommittees and review panels is described in the following document: Overview of the Panel Formation Process at the Environmental Protection Agency Science Advisory Board (EPA-SAB-EC-02-010), which is posted on the SAB Web site at http://www.epa.gov/sab/pdf/ec02010.pdf.

Dated: March 9, 2012.
Thomas H. Brennan,
Deputy Director, EPA Science Advisory Board Staff Office.

[FR Doc. 2012-6422 Filed 3-15-12; 8:45 am]

BILLING CODE P